FEDERAL COMMUNICATIONS COMMISSION

47 CFR Part 15

[PP Docket No. 00-67; FCC 00-342]

Compatibility Between Cable Systems and Consumer Electronics Equipment

AGENCY: Federal Communications Commission.

ACTION: Final rule; announcement of effective date.

SUMMARY: The Commission adopted new rules on the labeling of digital television receivers and other consumer electronics receiving devices. Certain rules contained new and modified information collection requirements and were published in the Federal Register on October 27, 2000. This document announces the effective date of these published rules.

DATES: The amendments to §§ 15.3, 15.19 and 15.18 published at 65 FR 64388, October 27, 2000. became effective on May 1, 2001.

FOR FURTHER INFORMATION CONTACT: Nancy J. Brooks, Office of Engineering and Technology, Policy and Rules Division, (202) 418-2454.

SUPPLEMENTARY INFORMATION: On May 1, 2001, the Office of Management and Budget (OMB) approved the information collection requirements contained in Sections 15.3; 15.19; and 15.118 pursuant to OMB Control No. 3060-0959. Accordingly, the information collection requirements contained in these rules became effective on May 1, 2001.

Federal Communications Commission.
Marlene H. Dortch,
Secretary.

[FR Doc. 03-21506 Filed 8-21-03; 8:45 am]

BILLING CODE 6712-01-P